DEPARTMENT OF JUSTICE

Antitrust Division

Notice Pursuant to the National Cooperative Research and Production Act of 1993—Rapid Response Partnership Vehicle

Notice is hereby given that, on July 11, 2024, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, Esperovax, Inc., Plymouth, MI; Genomic Expression, Inc., Beverly, MA; ID Biologics, Inc., Nashville, TN; MPS Medical, Inc., Brea, CA; QuidelOrtho Corp., San Diego, CA; Sinergium Biotech S.A., Buenos Aires, ARGENTINA; Somatek, San Diego, CA; True Diagnostics, Inc., Carlsbad, CA; VaxSyna, Inc., Franklin, NH; Burrell International Group LLC, Washington, DC; Cellular Technology, Ltd., Shaker, OH; QIAGEN LLC, Germantown, MD; RAIsonance, Inc., Greenwood Village, CO; Canaria Technologies Pty, Ltd., Brisbane, AUSTRALIA; Elarex, Inc., Burlington, CANADA; Gila Diagnostics, Inc., Phoenix, AZ; IIT Research Institute, Chicago, IL; ImmunoServ, Cardiff, UNITED KINGDOM; OraSure Technologies, Inc., Bethlehem, PA; Vaccine Company, Inc., Bethesda, MD; Visby Medical, Inc., San Jose, CA; Global Life Science Solutions USA LLC dba Cytiva, Marlborough, MA; Pathway Policy Group LLC, McLean, VA; PSC Biotech Corporation, Pomona, CA; Q-VANT Biosciences, Inc., Forestdale, MA; Seqirus, Inc., Holly Springs, NC; The Rector and Visitors of the University of Virginia, Charlottesville, VA; Gusmer Enterprises, Inc., Mountainside, NJ; Azure Medical, Inc., La Verne, CA; Cellphire Therapeutics, Inc., Rockville, MD; CorDx, Inc., San Diego, CA; The University of Central Florida Board of Trustees, Orlando, FL; The Albert B. Sabin Vaccine Institute, Inc., Washington, DC; InFlo Medical, Irvine, CA; Shionogi, Inc., Florham Park, NJ; Agno Pharmaceuticals LLC, Bethlehem, PA; Astute Crew LLC, San Lorenzo, CA; CONTINUUS Pharmaceuticals, Inc., Woburn, MA; Cornerstone Government Affairs, Inc., Washington, DC; Cytophage Technologies, Inc., Winnipeg, CANADA; Decoy Therapeutics, Cambridge, MD; Emergex USA Corp., Doylestown, PA; Emergo Therapeutics, Chapel Hill, NC; GE Medical Systems Information Technologies, Inc. dba GE Healthcare Technology & Innovation Center, Niskayuna, NY; GRI Technology Solutions LLC, San Mateo, CA; Humanetics Corp., Minneapolis, MN; North X Biologics AB, Matfors, SWEDEN; Novavax, Inc., Gaithersburg, MD; Photosynthetic B.V., Amsterdam, NETHERLANDS; Pioneer Vaccine, Inc., Daejeon, REPUBLIC OF KOREA; Quantiscope PBC, Salt Lake City, UT; Validated Cloud, Inc., Waltham, MA; Vivaldi Biosciences, Inc., Fort Collins, CO; Wheeler Bio, Inc., Oklahoma, OK; A-Alpha Bio, Inc., Seattle, WA; Prosetta Biosciences, Inc., San Francisco, CA; Revagenix, Inc., San Francisco, CA; University of Texas Medical Branch at Galveston, Galveston, TX; AlbaNY labs LLC, Rensselaer, NY; AI Proteins, Inc., Boston, MA; Appel Sauce Studios LLC, Menlo Park, CA; Microbiologics, Inc., Saint Cloud, MN; POP Biotechnologies, Buffalo, NY; Southern Research Institute, Birmingham, AL; and SPOC Proteomics, Inc., Scottdale, AZ, have been added as parties to this venture.

No other changes have been made in either the membership or planned activity of the group research project. Membership in this group research project remains open, and RRPV intends to file additional written notifications disclosing all changes in membership.

On January 05, 2024, RRPV filed its original notification pursuant to section 6(a) of the Act. The Department of Justice published a notice in the Federal Register pursuant to section 6(b) of the Act on April 16, 2024 (89 FR 26928).

The last notification was filed with the Department on April 12, 2024. A notice was published in the Federal Register pursuant to section 6(b) of the Act on June 21, 2024 (89 FR 52095).

Suzanne Morris,
Deputy Director Civil Enforcement Operations, Antitrust Division.

[FR Doc. 2024-23591 Filed 10-10-24; 8:45 am]

BILLING CODE P